POSTAL SERVICE

39 CFR Part 111

Pricing and Mailing Standards Changes for Shipping Services

AGENCY: Postal Service.™

ACTION: Final rule.

SUMMARY: The Postal Service is revising Mailing Standards of the United States Postal Service, Domestic Mail Manual (DMM®) to reflect changes to the prices and standards for the following Shipping Services:

• Express Mail®

• Priority Mail®

• Parcel Select®

• Parcel Return Service®

DATES: Effective Date: January 18, 2009.

FOR FURTHER INFORMATION CONTACT: Bert Olsen at 202-268-7276 or Monica Grein at 202-268-8411.

SUPPLEMENTARY INFORMATION: On November 12, 2008, the Governors of the Postal Service established new prices and product features for Shipping Services. This Federal Register notice describes these price and product changes and the mailing standards to implement them.

Express Mail

On average, Express Mail retail prices will increase by approximately 5.7 percent. The commercial base prices will increase by approximately 3.7 percent and will be 5 percent lower than the retail price. Commercial volume rebates will be eliminated on January 18, 2009. Any rebate earned from January 1-17 will be credited to the qualifying mail owner's account at the end of the quarter. A new price category, commercial plus pricing, will be introduced and will be 14.5 percent lower than the retail price.

Express Mail commercial base prices availability will be expanded to customers who pay postage using Information Based Indicia (IBI) postage meters. Effective January 2010, to qualify for the commercial base prices, the IBI postage meter must be able to electronically provide transactional data by customer.

Commercial plus pricing will be available to new and existing customers whose account volume exceeds a minimum threshold or who have a customer commitment agreement with the Postal Service, and who either use an Express Mail Corporate Account (EMCA), including Federal Agency Accounts, or are registered end-users of USPS approved PC-Postage® providers using qualifying shipping labels managed by the PC-Postage system used.

Priority Mail

On average, Priority Mail retail prices are increasing by approximately 4.7 percent. We will be introducing a new Priority Mail small flat-rate box, identified by the preprinted words “Small Flat-Rate Box,” enhancing customer choice, convenience, and ease of use. The small Priority Mail flat-rate box will be $4.95 at retail, the same price as the flat-rate envelope.

Priority Mail commercial base prices will be expanded to customers who pay postage using Information Based Indicia (IBI) postage meters, in conjunction with an approved shipping label that includes a confirmation services barcode with a postal routing code. Effective January 2010, to qualify for the commercial base prices, the IBI meter must be able to electronically provide transactional data by customer.

A new price category, commercial plus pricing, is being introduced and will be lower than commercial base prices. Commercial plus pricing will be available to new and existing permit imprint customers whose account volume exceeds a minimum threshold or who have a customer commitment agreement with the Postal Service. Also, registered end-users of USPS approved PC-Postage products using qualifying shipping labels from the PC-Postage product used and whose account volume exceeds a minimum threshold will qualify for commercial plus pricing.

Retail prices will no longer be available to Priority Mail customers using permit imprint. Permit imprint customers will be required to use the commercial base prices and to conform to the commercial base price eligibility requirements. To allow for system enhancements, customers will have until May 2009 to comply with the commercial base price barcode requirements.

Parcel Select

The average price increase is: 4.7 percent for destination delivery unit; 6.8 percent for destination sectional center facility; and 9.1 percent for destination bulk mail center. There are no additional changes to the Parcel Select products.

Parcel Return Service

The return delivery unit price will not be increasing. The return bulk mail center price will increase by approximately 7.1 percent. There are no additional changes to the Parcel Return Service product.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

100 Retail Letters, Cards, Flats, and Parcels

* * * * *

110 Express Mail

113 Prices and Eligibility

1.0 Express Mail Prices and Fees

* * * * *

1.3 Prices

[Insert new price chart and revise footnotes of Exhibit 1.3 as follows:]

Exhibit 1.3—Express Mail Prices—Retail Letters, Large Envelopes, & Parcels
Weight not over (pounds) | Zone ¹ ² ³: L, 1, 2 | Zone ¹ ² ³: 3 | Zone ¹ ² ³: 4 | Zone ¹ ² ³: 5 | Zone ¹ ² ³: 6 | Zone ¹ ² ³: 7 | Zone ¹ ² ³: 8
0.5 | 13.05 | 15.20 | 18.50 | 19.80 | 20.10 | 20.90 | 21.20
1 | 15.00 | 19.80 | 23.60 | 24.20 | 24.70 | 25.05 | 25.15
2 | 16.30 | 20.90 | 25.95 | 26.55 | 27.05 | 27.25 | 27.65
3 | 17.30 | 22.20 | 29.85 | 30.55 | 31.15 | 31.35 | 31.65
4 | 18.60 | 23.60 | 33.75 | 35.00 | 35.15 | 35.30 | 35.60
5 | 19.30 | 25.25 | 37.60 | 39.00 | 39.10 | 39.30 | 39.60
6 | 22.60 | 30.35 | 41.10 | 42.90 | 43.00 | 43.20 | 43.70
7 | 25.95 | 35.40 | 44.95 | 46.25 | 46.95 | 47.25 | 47.55
8 | 27.25 | 36.50 | 48.40 | 50.25 | 51.05 | 51.25 | 51.65
9 | 28.75 | 38.00 | 51.80 | 54.25 | 55.00 | 55.20 | 55.60
10 | 29.65 | 39.60 | 54.20 | 56.90 | 57.80 | 58.00 | 58.40
11 | 32.35 | 44.30 | 57.90 | 59.70 | 60.60 | 60.80 | 61.20
12 | 32.95 | 47.45 | 61.00 | 62.40 | 63.40 | 63.50 | 63.90
13 | 33.35 | 50.45 | 63.80 | 65.15 | 66.05 | 66.85 | 67.65
14 | 34.45 | 53.55 | 66.35 | 67.85 | 68.85 | 69.75 | 70.45
15 | 36.50 | 56.60 | 69.15 | 70.65 | 71.65 | 72.35 | 73.25
16 | 37.50 | 59.80 | 71.85 | 73.45 | 74.70 | 74.80 | 75.00
17 | 39.60 | 62.90 | 74.55 | 76.10 | 77.20 | 77.40 | 77.80
18 | 41.70 | 65.85 | 77.20 | 78.90 | 80.00 | 80.20 | 80.60
19 | 42.80 | 68.95 | 79.90 | 81.60 | 82.70 | 82.90 | 83.30
20 | 44.80 | 72.15 | 83.80 | 85.05 | 85.95 | 86.45 | 87.05
21 | 46.05 | 76.60 | 86.45 | 87.65 | 89.75 | 90.05 | 90.25
22 | 48.15 | 79.80 | 90.25 | 91.65 | 92.55 | 92.85 | 93.75
23 | 49.15 | 82.90 | 92.95 | 94.45 | 95.40 | 95.60 | 96.50
24 | 51.25 | 86.05 | 95.90 | 97.20 | 98.30 | 98.40 | 98.60
25 | 53.45 | 89.25 | 98.20 | 100.00 | 101.00 | 101.20 | 101.70
26 | 54.45 | 92.45 | 101.10 | 102.80 | 103.80 | 104.10 | 104.55
27 | 56.50 | 95.50 | 103.70 | 105.45 | 106.55 | 106.85 | 107.35
28 | 57.60 | 98.70 | 107.05 | 108.25 | 109.35 | 109.65 | 110.15
29 | 59.70 | 101.80 | 110.55 | 111.05 | 112.15 | 112.45 | 112.85
30 | 61.80 | 104.95 | 114.05 | 114.35 | 115.40 | 115.70 | 116.50
31 | 62.80 | 108.05 | 117.50 | 117.80 | 119.00 | 119.30 | 120.10
32 | 64.85 | 111.35 | 121.00 | 121.40 | 122.50 | 122.80 | 123.70
33 | 65.95 | 114.45 | 124.45 | 124.85 | 126.05 | 126.35 | 127.25
34 | 68.05 | 117.50 | 128.05 | 128.35 | 129.55 | 129.85 | 130.85
35 | 69.15 | 120.70 | 131.45 | 131.95 | 133.05 | 133.45 | 134.40
36 | 71.15 | 123.90 | 135.00 | 135.40 | 136.70 | 137.00 | 138.00
37 | 73.25 | 126.95 | 138.50 | 138.90 | 140.30 | 140.60 | 141.60
38 | 74.35 | 130.15 | 142.00 | 142.50 | 143.80 | 144.10 | 145.15
39 | 76.40 | 133.35 | 145.55 | 145.95 | 147.15 | 147.55 | 148.75
40 | 77.40 | 136.40 | 149.05 | 149.45 | 150.75 | 151.15 | 152.35
41 | 79.50 | 139.60 | 152.55 | 153.05 | 154.40 | 154.60 | 155.90
42 | 81.60 | 142.80 | 156.00 | 156.50 | 158.00 | 158.20 | 159.50
43 | 82.70 | 145.85 | 159.50 | 160.10 | 161.50 | 161.80 | 163.10
44 | 84.75 | 149.05 | 163.00 | 163.60 | 165.05 | 165.35 | 166.65
45 | 85.85 | 152.25 | 166.45 | 167.05 | 168.55 | 168.85 | 170.25
46 | 87.95 | 155.30 | 170.05 | 170.55 | 172.05 | 172.35 | 173.85
47 | 88.95 | 158.50 | 173.55 | 174.15 | 175.60 | 175.90 | 177.40
48 | 91.05 | 161.70 | 177.00 | 177.60 | 179.20 | 179.50 | 181.00
49 | 93.15 | 164.75 | 180.50 | 181.10 | 182.80 | 183.00 | 184.55
50 | 94.25 | 167.95 | 184.10 | 184.65 | 186.25 | 186.55 | 188.15
51 | 96.30 | 171.15 | 187.55 | 188.15 | 189.75 | 190.05 | 191.75
52 | 97.40 | 174.20 | 191.05 | 191.75 | 193.35 | 193.65 | 195.40
53 | 99.50 | 177.40 | 194.50 | 195.10 | 196.90 | 197.10 | 198.90
54 | 101.60 | 180.60 | 198.00 | 198.70 | 200.50 | 200.70 | 202.50
55 | 102.60 | 184.75 | 201.60 | 202.20 | 204.00 | 204.25 | 206.05
56 | 104.65 | 187.95 | 205.05 | 205.75 | 207.55 | 207.75 | 209.65
57 | 105.75 | 191.15 | 208.55 | 209.25 | 211.05 | 211.35 | 213.25
58 | 107.75 | 194.20 | 212.05 | 212.75 | 214.60 | 214.80 | 216.80
59 | 108.95 | 197.30 | 215.50 | 216.30 | 218.20 | 218.40 | 220.40
60 | 110.95 | 200.50 | 219.00 | 219.80 | 221.70 | 222.00 | 223.95
61 | 113.05 | 203.70 | 222.60 | 223.40 | 225.25 | 225.55 | 227.55
62 | 114.15 | 206.75 | 226.05 | 226.75 | 228.75 | 229.05 | 231.15
63 | 116.20 | 209.95 | 229.55 | 230.35 | 232.35 | 232.55 | 234.80
64 | 117.20 | 213.05 | 233.05 | 233.85 | 235.90 | 236.10 | 238.40
65 | 119.30 | 216.20 | 236.50 | 237.30 | 239.40 | 239.70 | 241.90
66 | 121.50 | 219.40 | 240.10 | 240.90 | 243.00 | 243.30 | 245.45
67 | 122.50 | 222.50 | 243.60 | 244.35 | 246.45 | 246.75 | 249.05
68 | 124.55 | 225.65 | 247.05 | 247.95 | 250.05 | 250.35 | 252.75
69 | 125.55 | 228.85 | 250.55 | 251.45 | 253.55 | 253.80 | 256.20
70 | 127.75 | 232.05 | 254.10 | 254.90 | 257.10 | 257.30 | 259.80
¹ For Sunday/holiday delivery, add $12.50.
² $17.50 is charged for material sent in an Express Mail flat-rate envelope provided by the USPS regardless of weight or destination.
³ Commercial Prices: $16.63 is charged for material sent in an Express Mail flat-rate envelope provided by the USPS regardless of weight or destination, when postage is paid through Click-N-Ship service at usps.com, or by registered end-users of PC Postage.

1.4 Flat-Rate Envelope

[Revise text of the first sentence of 1.4 as follows:]

Material mailed in the USPS-provided Express Mail flat-rate envelope is charged $17.50, regardless of the actual weight of the piece or its destination. * * *

* * * * *

120 Priority Mail

123 Prices and Eligibility

* * * * *

[Renumber current 1.2 through 1.9 as new 1.3 through 1.10 and insert new 1.2, Prices, as follows:]

1.2 Prices

[Insert new price chart and revise footnotes of Exhibit 1.2 as follows:]

Exhibit 1.2—Priority Mail Prices—Retail Letters, Large Envelopes, & Parcels
Weight not over (pounds) | Zone ¹ ² ³ ⁴ ⁵ ⁶: L, 1, 2 | Zone ¹ ² ³ ⁴ ⁵ ⁶: 3 | Zone ¹ ² ³ ⁴ ⁵ ⁶: 4 | Zone ¹ ² ³ ⁴ ⁵ ⁶: 5 | Zone ¹ ² ³ ⁴ ⁵ ⁶: 6 | Zone ¹ ² ³ ⁴ ⁵ ⁶: 7 | Zone ¹ ² ³ ⁴ ⁵ ⁶: 8
1 | 4.95 | 4.95 | 4.95 | 4.95 | 4.95 | 4.95 | 4.95
2 | 4.95 | 5.20 | 5.75 | 7.10 | 7.60 | 8.10 | 8.70
3 | 5.50 | 6.25 | 7.10 | 9.05 | 9.90 | 10.60 | 11.95
4 | 6.10 | 7.10 | 8.15 | 10.80 | 11.95 | 12.95 | 14.70
5 | 6.85 | 8.15 | 9.45 | 12.70 | 13.75 | 15.20 | 17.15
6 | 7.55 | 9.25 | 10.75 | 14.65 | 15.50 | 17.50 | 19.60
7 | 8.30 | 10.30 | 12.05 | 16.55 | 17.30 | 19.75 | 22.05
8 | 8.80 | 10.70 | 13.10 | 17.95 | 18.80 | 21.70 | 24.75
9 | 9.25 | 11.45 | 13.95 | 19.15 | 20.30 | 23.60 | 27.55
10 | 9.90 | 12.35 | 15.15 | 20.75 | 22.50 | 25.90 | 29.95
11 | 10.55 | 13.30 | 16.40 | 22.40 | 24.75 | 28.20 | 32.40
12 | 11.20 | 14.20 | 17.60 | 24.00 | 26.95 | 30.50 | 34.80
13 | 11.50 | 14.55 | 18.10 | 25.30 | 28.90 | 31.70 | 36.00
14 | 11.90 | 15.20 | 18.90 | 26.45 | 30.50 | 33.50 | 37.80
15 | 12.40 | 15.85 | 19.85 | 27.25 | 31.15 | 33.85 | 38.60
16 | 12.80 | 16.40 | 20.45 | 27.85 | 31.85 | 34.60 | 39.55
17 | 13.25 | 16.95 | 20.85 | 28.50 | 32.70 | 35.50 | 40.60
18 | 13.50 | 17.50 | 21.30 | 29.10 | 33.35 | 36.15 | 41.55
19 | 13.95 | 17.90 | 21.60 | 29.80 | 34.15 | 37.10 | 42.60
20 | 14.30 | 18.15 | 22.00 | 30.30 | 34.80 | 37.80 | 43.55
21 | 14.70 | 18.40 | 22.35 | 30.80 | 35.35 | 38.45 | 44.40
22 | 15.05 | 18.75 | 22.70 | 31.50 | 36.15 | 39.35 | 45.50
23 | 15.40 | 19.00 | 23.35 | 32.05 | 36.80 | 40.00 | 46.30
24 | 15.75 | 19.20 | 24.05 | 32.70 | 37.55 | 40.95 | 47.45
25 | 16.10 | 19.50 | 24.85 | 33.25 | 38.10 | 41.55 | 48.25
26 | 16.45 | 19.70 | 25.65 | 33.95 | 39.00 | 42.45 | 49.80
27 | 16.90 | 20.00 | 26.40 | 34.40 | 39.55 | 43.05 | 51.65
28 | 17.40 | 20.25 | 27.10 | 34.85 | 40.10 | 43.70 | 53.55
29 | 17.95 | 20.45 | 27.90 | 35.30 | 40.60 | 44.30 | 55.25
30 | 18.50 | 20.75 | 28.65 | 35.80 | 41.15 | 44.90 | 57.10
31 | 19.00 | 20.95 | 29.45 | 36.25 | 41.70 | 45.50 | 59.00
32 | 19.50 | 21.45 | 30.20 | 36.70 | 42.25 | 46.60 | 60.85
33 | 19.75 | 22.00 | 30.90 | 37.15 | 42.80 | 47.90 | 62.60
34 | 19.95 | 22.60 | 31.45 | 37.95 | 44.05 | 49.20 | 64.45
35 | 20.20 | 23.15 | 31.90 | 38.75 | 45.25 | 50.55 | 66.30
36 | 20.40 | 23.75 | 32.30 | 39.60 | 46.40 | 51.90 | 68.15
37 | 20.60 | 24.25 | 32.75 | 40.35 | 47.60 | 53.25 | 70.00
38 | 20.80 | 24.85 | 33.15 | 41.15 | 48.95 | 54.50 | 71.80
39 | 21.05 | 25.35 | 33.55 | 42.00 | 50.15 | 55.90 | 73.70
40 | 21.45 | 25.90 | 33.90 | 42.85 | 51.30 | 57.15 | 75.45
41 | 21.90 | 26.40 | 34.30 | 43.25 | 52.50 | 58.55 | 76.90
42 | 22.30 | 26.90 | 34.65 | 44.15 | 53.65 | 59.90 | 77.95
43 | 22.75 | 27.35 | 35.00 | 45.15 | 54.95 | 61.25 | 78.95
44 | 23.15 | 27.90 | 35.35 | 46.15 | 56.10 | 62.60 | 79.90
45 | 23.55 | 28.40 | 35.70 | 47.15 | 57.35 | 63.95 | 80.85
46 | 24.00 | 28.75 | 36.05 | 48.05 | 58.55 | 65.25 | 81.75
47 | 24.40 | 28.95 | 36.35 | 49.10 | 59.85 | 66.65 | 82.70
48 | 24.85 | 29.20 | 36.70 | 50.10 | 61.05 | 68.00 | 83.55
49 | 25.25 | 29.40 | 37.00 | 51.00 | 62.15 | 69.40 | 84.40
50 | 25.60 | 29.65 | 37.35 | 52.00 | 63.35 | 70.50 | 85.45
51 | 26.10 | 29.85 | 38.00 | 53.00 | 64.55 | 71.15 | 86.35
52 | 26.45 | 30.05 | 38.75 | 54.00 | 65.30 | 71.75 | 87.20
53 | 26.95 | 30.25 | 39.40 | 54.95 | 65.80 | 72.35 | 88.05
54 | 27.30 | 30.40 | 40.05 | 56.00 | 66.30 | 72.90 | 88.90
55 | 27.75 | 30.60 | 40.85 | 57.00 | 66.80 | 73.50 | 89.65
56 | 28.15 | 30.75 | 41.50 | 57.90 | 67.30 | 74.00 | 90.45
57 | 28.60 | 30.95 | 42.15 | 58.80 | 67.75 | 74.55 | 91.25
58 | 29.00 | 31.10 | 42.90 | 59.55 | 68.20 | 75.05 | 92.00
59 | 29.45 | 31.25 | 43.60 | 59.95 | 68.65 | 75.50 | 92.65
60 | 29.80 | 31.40 | 44.25 | 60.30 | 69.05 | 76.70 | 93.35
61 | 30.30 | 31.50 | 45.05 | 60.60 | 69.85 | 77.90 | 94.60
62 | 30.65 | 31.65 | 45.70 | 60.95 | 70.30 | 79.10 | 96.10
63 | 31.15 | 31.80 | 46.40 | 61.25 | 70.70 | 79.90 | 97.60
64 | 31.50 | 31.90 | 47.10 | 61.55 | 71.15 | 80.40 | 99.15
65 | 31.95 | 32.00 | 47.70 | 61.85 | 71.50 | 80.85 | 100.70
66 | 32.35 | 32.35 | 48.45 | 62.10 | 71.95 | 81.25 | 102.15
67 | 32.80 | 32.80 | 49.25 | 62.75 | 72.30 | 81.70 | 103.75
68 | 33.20 | 33.20 | 49.90 | 63.65 | 72.60 | 82.10 | 105.20
69 | 33.65 | 33.65 | 50.55 | 64.60 | 73.00 | 82.50 | 106.75
70 | 34.05 | 34.05 | 51.35 | 64.90 | 73.30 | 82.85 | 108.25
¹ Parcels addressed for delivery to zones 1-4 (including local) that weigh less than 20 pounds but measure more than 84 inches in combined length and girth (but not more than 108 inches) are charged the applicable price for a 20-pound parcel (balloon price).
² Parcels addressed for delivery to zones 5-8 that exceed 1 cubic foot (1,728 cubic inches) are charged based on the actual weight or the dimensional weight (as calculated in in 123.1.3), whichever is greater.
³ For keys and ID devices that weigh:
• Up to 13 ounces, refer to retail First-Class Mail parcel prices.
• More than 13 ounces but not more than 1 pound, $5.67.
• More than 1 pound but not more than 2 pounds, $6.47.
⁴ $4.95 is charged for matter sent in a Priority Mail flat-rate envelope or small flat-rate box provided by the USPS, regardless of weight or destination.
⁵ $10.35 is charged for material sent in a Priority Mail regular flat-rate box provided by the USPS, regardless of weight or destination.
⁶ $13.95 is charged for material sent in a Priority Mail large flat-rate box provided by the USPS, regardless of weight to domestic addresses, and $11.95 for material sent in a Priority Mail large flat-rate box to APO/FPO destination addresses.

* * * * *

1.5 Flat-Rate Envelope and Boxes

* * * * *

1.5.1 Flat-Rate Envelope—Price and Eligibility

[Revise text of the first sentence by changing the price to $4.95.]

1.5.2 Flat-Rate Boxes—Price and Eligibility

[Re-letter current items a through c as new b through d, add a new item a, and change prices in new items b through d of new 1.5.2 as follows:]

* * * Each USPS-produced Priority Mail flat-rate box, regardless of the actual weight of the piece or its destination, is charged:

a. $4.95 for material sent in Priority Mail small flat-rate boxes to domestic and APO/FPO addresses.

b. $10.35 for material sent in Priority Mail regular flat-rate boxes (FRB-1 or FRB-2) to domestic and APO/FPO addresses.

c. $11.95 for material sent in a Priority Mail large flat-rate box to APO/FPO addresses (see 703.2).

d. $13.95 for material sent in a Priority Mail large flat-rate box to domestic addresses.

1.6 Prices for Keys and Identification Devices

[Revise table by changing prices.].

Weight not over (pounds) | Price
1 pound | $5.67
2 pounds | 6.47

* * * * *

124 Postage Payment Methods

1.0 Basic Standards for Postage Payment

1.1 Payment Method

[Revise 1.1 by removing the reference to permit imprint and revising the text to read as follows:]

Priority Mail postage may be paid with postage stamps (see 604.1.0) or meter stamps (see 604.4.0).

* * * * *

[Remove 2.0, Postage Paid with Permit Imprint in its entirety.]

125 Mail Preparation

* * * * *

[Remove 3.0, Preparation for a Permit Imprint in its entirety.]

126 Deposit

1.0 Deposit

1.1 Pieces Weighing 13 Ounces or Less

[Remove last sentence of 1.1 in its entirety to remove reference to permit imprint.]

* * * * *

400 Commercial Parcels

* * * * *

410 Commercial Parcels Express Mail

413 Prices and Eligibility

[Revise heading of 1.0 as follows:]

1.0 Prices and Fees

* * * * *

1.3 Commercial Base Prices

[Revise introductory text of 1.3 by changing the percentage as follows:]

Express Mail commercial base prices are 5 percent below retail Express Mail prices (see Exhibit 413.1.3). These prices apply to:

* * * * *

[Revise item c and insert new item d as follows:]

c. Registered end-users of USPS approved PC-Postage providers when using a qualifying shipping label managed by the PC-Postage system used.

d. Customers who pay postage using Information Based Indicia (IBI) postage meters when using an Express Mail shipping label.

[Insert new Exhibit 1.3 as follows:]

Exhibit 1.3—Express Mail Commercial Base Prices
Weight not over (pounds) | Zone ¹ ²: L, 1, 2 | Zone ¹ ²: 3 | Zone ¹ ²: 4 | Zone ¹ ²: 5 | Zone ¹ ²: 6 | Zone ¹ ²: 7 | Zone ¹ ²: 8
0.5 | 12.40 | 14.44 | 17.58 | 18.81 | 19.10 | 19.86 | 20.14
1 | 14.25 | 18.81 | 22.42 | 22.99 | 23.47 | 23.80 | 23.89
2 | 15.49 | 19.86 | 24.65 | 25.22 | 25.70 | 25.89 | 26.27
3 | 16.44 | 21.09 | 28.36 | 29.02 | 29.59 | 29.78 | 30.07
4 | 17.67 | 22.42 | 32.06 | 33.25 | 33.39 | 33.54 | 33.82
5 | 18.34 | 23.99 | 35.72 | 37.05 | 37.15 | 37.34 | 37.62
6 | 21.47 | 28.83 | 39.05 | 40.76 | 40.85 | 41.04 | 41.52
7 | 24.65 | 33.63 | 42.70 | 43.94 | 44.60 | 44.89 | 45.17
8 | 25.89 | 34.68 | 45.98 | 47.74 | 48.50 | 48.69 | 49.07
9 | 27.31 | 36.10 | 49.21 | 51.54 | 52.25 | 52.44 | 52.82
10 | 28.17 | 37.62 | 51.49 | 54.06 | 54.91 | 55.10 | 55.48
11 | 30.73 | 42.09 | 55.01 | 56.72 | 57.57 | 57.76 | 58.14
12 | 31.30 | 45.08 | 57.95 | 59.28 | 60.23 | 60.33 | 60.71
13 | 31.68 | 47.93 | 60.61 | 61.89 | 62.75 | 63.51 | 64.27
14 | 32.73 | 50.87 | 63.03 | 64.46 | 65.41 | 66.26 | 66.93
15 | 34.68 | 53.77 | 65.69 | 67.12 | 68.07 | 68.73 | 69.59
16 | 35.63 | 56.81 | 68.26 | 69.78 | 70.97 | 71.06 | 71.25
17 | 37.62 | 59.76 | 70.82 | 72.30 | 73.34 | 73.53 | 73.91
18 | 39.62 | 62.56 | 73.34 | 74.96 | 76.00 | 76.19 | 76.57
19 | 40.66 | 65.50 | 75.91 | 77.52 | 78.57 | 78.76 | 79.14
20 | 42.56 | 68.54 | 79.61 | 80.80 | 81.65 | 82.13 | 82.70
21 | 43.75 | 72.77 | 82.13 | 83.27 | 85.26 | 85.55 | 85.74
22 | 45.74 | 75.81 | 85.74 | 87.07 | 87.92 | 88.21 | 89.06
23 | 46.69 | 78.76 | 88.30 | 89.73 | 90.63 | 90.82 | 91.68
24 | 48.69 | 81.75 | 91.11 | 92.34 | 93.39 | 93.48 | 93.67
25 | 50.78 | 84.79 | 93.29 | 95.00 | 95.95 | 96.14 | 96.62
26 | 51.73 | 87.83 | 96.05 | 97.66 | 98.61 | 98.90 | 99.32
27 | 53.68 | 90.73 | 98.52 | 100.18 | 101.22 | 101.51 | 101.98
28 | 54.72 | 93.77 | 101.70 | 102.84 | 103.88 | 104.17 | 104.64
29 | 56.72 | 96.71 | 105.02 | 105.50 | 106.54 | 106.83 | 107.21
30 | 58.71 | 99.70 | 108.35 | 108.63 | 109.63 | 109.92 | 110.68
31 | 59.66 | 102.65 | 111.63 | 111.91 | 113.05 | 113.34 | 114.10
32 | 61.61 | 105.78 | 114.95 | 115.33 | 116.38 | 116.66 | 117.52
33 | 62.65 | 108.73 | 118.23 | 118.61 | 119.75 | 120.03 | 120.89
34 | 64.65 | 111.63 | 121.65 | 121.93 | 123.07 | 123.36 | 124.31
35 | 65.69 | 114.67 | 124.88 | 125.35 | 126.40 | 126.78 | 127.68
36 | 67.59 | 117.71 | 128.25 | 128.63 | 129.87 | 130.15 | 131.10
37 | 69.59 | 120.60 | 131.58 | 131.96 | 133.29 | 133.57 | 134.52
38 | 70.63 | 123.64 | 134.90 | 135.38 | 136.61 | 136.90 | 137.89
39 | 72.58 | 126.68 | 138.27 | 138.65 | 139.79 | 140.17 | 141.31
40 | 73.53 | 129.58 | 141.60 | 141.98 | 143.21 | 143.59 | 144.73
41 | 75.53 | 132.62 | 144.92 | 145.40 | 146.68 | 146.87 | 148.11
42 | 77.52 | 135.66 | 148.20 | 148.68 | 150.10 | 150.29 | 151.53
43 | 78.57 | 138.56 | 151.53 | 152.10 | 153.43 | 153.71 | 154.95
44 | 80.51 | 141.60 | 154.85 | 155.42 | 156.80 | 157.08 | 158.32
45 | 81.56 | 144.64 | 158.13 | 158.70 | 160.12 | 160.41 | 161.74
46 | 83.55 | 147.54 | 161.55 | 162.02 | 163.45 | 163.73 | 165.16
47 | 84.50 | 150.58 | 164.87 | 165.44 | 166.82 | 167.11 | 168.53
48 | 86.50 | 153.62 | 168.15 | 168.72 | 170.24 | 170.53 | 171.95
49 | 88.49 | 156.51 | 171.48 | 172.05 | 173.66 | 173.85 | 175.32
50 | 89.54 | 159.55 | 174.90 | 175.42 | 176.94 | 177.22 | 178.74
51 | 91.49 | 162.59 | 178.17 | 178.74 | 180.26 | 180.55 | 182.16
52 | 92.53 | 165.49 | 181.50 | 182.16 | 183.68 | 183.97 | 185.63
53 | 94.53 | 168.53 | 184.78 | 185.35 | 187.06 | 187.25 | 188.96
54 | 96.52 | 171.57 | 188.10 | 188.77 | 190.48 | 190.67 | 192.38
55 | 97.47 | 175.51 | 191.52 | 192.09 | 193.80 | 194.04 | 195.75
56 | 99.42 | 178.55 | 194.80 | 195.46 | 197.17 | 197.36 | 199.17
57 | 100.46 | 181.59 | 198.12 | 198.79 | 200.50 | 200.78 | 202.59
58 | 102.36 | 184.49 | 201.45 | 202.11 | 203.87 | 204.06 | 205.96
59 | 103.50 | 187.44 | 204.73 | 205.49 | 207.29 | 207.48 | 209.38
60 | 105.40 | 190.48 | 208.05 | 208.81 | 210.62 | 210.90 | 212.75
61 | 107.40 | 193.52 | 211.47 | 212.23 | 213.99 | 214.27 | 216.17
62 | 108.44 | 196.41 | 214.75 | 215.41 | 217.31 | 217.60 | 219.59
63 | 110.39 | 199.45 | 218.07 | 218.83 | 220.73 | 220.92 | 223.06
64 | 111.34 | 202.40 | 221.40 | 222.16 | 224.11 | 224.30 | 226.48
65 | 113.34 | 205.39 | 224.68 | 225.44 | 227.43 | 227.72 | 229.81
66 | 115.43 | 208.43 | 228.10 | 228.86 | 230.85 | 231.14 | 233.18
67 | 116.38 | 211.38 | 231.42 | 232.13 | 234.13 | 234.41 | 236.60
68 | 118.32 | 214.37 | 234.70 | 235.55 | 237.55 | 237.83 | 240.11
69 | 119.27 | 217.41 | 238.02 | 238.88 | 240.87 | 241.11 | 243.39
70 | 121.36 | 220.45 | 241.40 | 242.16 | 244.25 | 244.44 | 246.81
¹ Express Mail Commercial Base prices apply to:
• Customers who use an Express Mail Corporate Account (EMCA), including Federal Agency Accounts.
• Click-N-Ship customers.
• Registered end-users of USPS approved PC Postage Providers when using a qualifying shipping label.
• Customers who pay postage using an Information Based Indicia (IBI) postage meter.
² $16.63 is charged for material sent in an Express Mail flat-rate envelope regardless of weight or domestic destination. Only USPS-produced flat-rate envelopes are eligible for the flat-rate envelope price.

[Delete 1.5, Commercial Volume Rebates in its entirety, renumber current 1.4, Flat-Rate Envelope as new 1.5 and add a new 1.4 Commercial Plus Prices as follows:]

1.4 Commercial Plus Prices

Commercial plus prices are 14.5 percent below retail Express Mail prices (see Exhibit 413.1.4).

1.4.1 Existing Express Mail Customers

Commercial plus pricing is available to existing customers whose cumulative account volume exceeds 6,000 pieces in the previous 4 quarters or who have a customer commitment agreement with the USPS (see 1.4.2) and who are:

a. Express Mail Corporate Account (EMCA) customers, including Federal Agency Accounts.

b. Registered end-users of USPS approved PC-Postage products when using a qualifying shipping label managed by the PC-Postage system used.

1.4.2 New Express Mail Customers

Commercial plus prices are available for new Express Mail customers who have a customer commitment agreement with the USPS. Shippers must contact their account manager or the manager, Sales and Communication, Expedited Shipping (see 608.8.0 for address) for additional information.

[Insert new Exhibit 1.4 and revise footnotes as follows:]

Exhibit 1.4—Express Mail Commercial Plus Prices
Weight not over (pounds) | Zone ¹ ²: L, 1, 2 | Zone ¹ ²: 3 | Zone ¹ ²: 4 | Zone ¹ ²: 5 | Zone ¹ ²: 6 | Zone ¹ ²: 7 | Zone ¹ ²: 8
0.5 | 11.16 | 13.00 | 15.82 | 16.93 | 17.19 | 17.87 | 18.13
1 | 12.83 | 16.93 | 20.18 | 20.69 | 21.12 | 21.42 | 21.50
2 | 13.94 | 17.87 | 22.19 | 22.70 | 23.13 | 23.30 | 23.64
3 | 14.79 | 18.98 | 25.52 | 26.12 | 26.63 | 26.80 | 27.06
4 | 15.90 | 20.18 | 28.86 | 29.93 | 30.05 | 30.18 | 30.44
5 | 16.50 | 21.59 | 32.15 | 33.35 | 33.43 | 33.60 | 33.86
6 | 19.32 | 25.95 | 35.14 | 36.68 | 36.77 | 36.94 | 37.36
7 | 22.19 | 30.27 | 38.43 | 39.54 | 40.14 | 40.40 | 40.66
8 | 23.30 | 31.21 | 41.38 | 42.96 | 43.65 | 43.82 | 44.16
9 | 24.58 | 32.49 | 44.29 | 46.38 | 47.03 | 47.20 | 47.54
10 | 25.35 | 33.86 | 46.34 | 48.65 | 49.42 | 49.59 | 49.93
11 | 27.66 | 37.88 | 49.50 | 51.04 | 51.81 | 51.98 | 52.33
12 | 28.17 | 40.57 | 52.16 | 53.35 | 54.21 | 54.29 | 54.63
13 | 28.51 | 43.13 | 54.55 | 55.70 | 56.47 | 57.16 | 57.84
14 | 29.45 | 45.79 | 56.73 | 58.01 | 58.87 | 59.64 | 60.23
15 | 31.21 | 48.39 | 59.12 | 60.41 | 61.26 | 61.86 | 62.63
16 | 32.06 | 51.13 | 61.43 | 62.80 | 63.87 | 63.95 | 64.13
17 | 33.86 | 53.78 | 63.74 | 65.07 | 66.01 | 66.18 | 66.52
18 | 35.65 | 56.30 | 66.01 | 67.46 | 68.40 | 68.57 | 68.91
19 | 36.59 | 58.95 | 68.31 | 69.77 | 70.71 | 70.88 | 71.22
20 | 38.30 | 61.69 | 71.65 | 72.72 | 73.49 | 73.91 | 74.43
21 | 39.37 | 65.49 | 73.91 | 74.94 | 76.74 | 76.99 | 77.16
22 | 41.17 | 68.23 | 77.16 | 78.36 | 79.13 | 79.39 | 80.16
23 | 42.02 | 70.88 | 79.47 | 80.75 | 81.57 | 81.74 | 82.51
24 | 43.82 | 73.57 | 81.99 | 83.11 | 84.05 | 84.13 | 84.30
25 | 45.70 | 76.31 | 83.96 | 85.50 | 86.36 | 86.53 | 86.95
26 | 46.55 | 79.04 | 86.44 | 87.89 | 88.75 | 89.01 | 89.39
27 | 48.31 | 81.65 | 88.66 | 90.16 | 91.10 | 91.36 | 91.78
28 | 49.25 | 84.39 | 91.53 | 92.55 | 93.49 | 93.75 | 94.18
29 | 51.04 | 87.04 | 94.52 | 94.95 | 95.89 | 96.14 | 96.49
30 | 52.84 | 89.73 | 97.51 | 97.77 | 98.67 | 98.92 | 99.61
31 | 53.69 | 92.38 | 100.46 | 100.72 | 101.75 | 102.00 | 102.69
32 | 55.45 | 95.20 | 103.46 | 103.80 | 104.74 | 104.99 | 105.76
33 | 56.39 | 97.85 | 106.40 | 106.75 | 107.77 | 108.03 | 108.80
34 | 58.18 | 100.46 | 109.48 | 109.74 | 110.77 | 111.02 | 111.88
35 | 59.12 | 103.20 | 112.39 | 112.82 | 113.76 | 114.10 | 114.91
36 | 60.83 | 105.93 | 115.43 | 115.77 | 116.88 | 117.14 | 117.99
37 | 62.63 | 108.54 | 118.42 | 118.76 | 119.96 | 120.21 | 121.07
38 | 63.57 | 111.28 | 121.41 | 121.84 | 122.95 | 123.21 | 124.10
39 | 65.32 | 114.01 | 124.45 | 124.79 | 125.81 | 126.16 | 127.18
40 | 66.18 | 116.62 | 127.44 | 127.78 | 128.89 | 129.23 | 130.26
41 | 67.97 | 119.36 | 130.43 | 130.86 | 132.01 | 132.18 | 133.29
42 | 69.77 | 122.09 | 133.38 | 133.81 | 135.09 | 135.26 | 136.37
43 | 70.71 | 124.70 | 136.37 | 136.89 | 138.08 | 138.34 | 139.45
44 | 72.46 | 127.44 | 139.37 | 139.88 | 141.12 | 141.37 | 142.49
45 | 73.40 | 130.17 | 142.31 | 142.83 | 144.11 | 144.37 | 145.56
46 | 75.20 | 132.78 | 145.39 | 145.82 | 147.10 | 147.36 | 148.64
47 | 76.05 | 135.52 | 148.39 | 148.90 | 150.14 | 150.39 | 151.68
48 | 77.85 | 138.25 | 151.34 | 151.85 | 153.22 | 153.47 | 154.76
49 | 79.64 | 140.86 | 154.33 | 154.84 | 156.29 | 156.47 | 157.79
50 | 80.58 | 143.60 | 157.41 | 157.88 | 159.24 | 159.50 | 160.87
51 | 82.34 | 146.33 | 160.36 | 160.87 | 162.24 | 162.49 | 163.95
52 | 83.28 | 148.94 | 163.35 | 163.95 | 165.31 | 165.57 | 167.07
53 | 85.07 | 151.68 | 166.30 | 166.81 | 168.35 | 168.52 | 170.06
54 | 86.87 | 154.41 | 169.29 | 169.89 | 171.43 | 171.60 | 173.14
55 | 87.72 | 157.96 | 172.37 | 172.88 | 174.42 | 174.63 | 176.17
56 | 89.48 | 160.70 | 175.32 | 175.92 | 177.46 | 177.63 | 179.25
57 | 90.42 | 163.43 | 178.31 | 178.91 | 180.45 | 180.70 | 182.33
58 | 92.13 | 166.04 | 181.30 | 181.90 | 183.48 | 183.65 | 185.36
59 | 93.15 | 168.69 | 184.25 | 184.94 | 186.56 | 186.73 | 188.44
60 | 94.86 | 171.43 | 187.25 | 187.93 | 189.55 | 189.81 | 191.48
61 | 96.66 | 174.16 | 190.32 | 191.01 | 192.59 | 192.85 | 194.56
62 | 97.60 | 176.77 | 193.27 | 193.87 | 195.58 | 195.84 | 197.63
63 | 99.35 | 179.51 | 196.27 | 196.95 | 198.66 | 198.83 | 200.75
64 | 100.21 | 182.16 | 199.26 | 199.94 | 201.69 | 201.87 | 203.83
65 | 102.00 | 184.85 | 202.21 | 202.89 | 204.69 | 204.94 | 206.82
66 | 103.88 | 187.59 | 205.29 | 205.97 | 207.77 | 208.02 | 209.86
67 | 104.74 | 190.24 | 208.28 | 208.92 | 210.71 | 210.97 | 212.94
68 | 106.49 | 192.93 | 211.23 | 212.00 | 213.79 | 214.05 | 216.10
69 | 107.35 | 195.67 | 214.22 | 214.99 | 216.79 | 217.00 | 219.05
70 | 109.23 | 198.40 | 217.26 | 217.94 | 219.82 | 219.99 | 222.13
¹ Express Mail Commercial Plus prices apply to existing and new customers whose:
• Account volume exceeds a minimum threshold, or, has a customer commitment agreement with the USPS, and:
• Uses an Express Mail Corporate Account (EMCA), including Federal Agency Accounts; or,
• Is a registered end-user of USPS approved PC Postage products.
² $14.96 is charged for material sent in an Express Mail flat-rate envelope regardless of weight or domestic destination. Only USPS-provided flat-rate envelopes are eligible for the flat-rate envelope price.

1.5 Flat-Rate Envelope

[Revise text of the first sentence by changing the price as follows:]

Material mailed in the USPS-provided Express Mail flat-rate envelope is charged $16.63 (commercial base price) or $14.96 (commercial plus price), regardless of the actual weight of the piece or its destination. * * *

* * * * *

1.9 Computing Postage

[Revise 1.9 by changing the percentage, adding reference to commercial plus price, and deleting the last sentence so that it reads as follows:]

For each addressed mailpiece, determine the retail price based on weight and zone. Then, multiply the retail price by 5 percent for commercial base pricing, and by 14.5 percent for commercial plus pricing to obtain the appropriate discount amount. Subtract the discount amount (without rounding off) from the retail price and round off the result (see 604.7.1.3).

* * * * *

414 Postage Payment and Documentation

1.0 Basic Standards for Postage Payment

[Delete current paragraph in 1.0, and add 1.1, 1.1.1, and 1.1.2 to read as follows:]

1.1 Postage Payment Options

Federal agency and USPS official Express Mail may use the appropriate indicia, subject to 703.7.0, Official Mail (Penalty). The mailer is responsible for proper payment of postage. Customers wishing to manifest Express Mail items may request authorization to use an Express Mail Manifesting System according to the procedures in 705.2.6.

1.1.1 Commercial Base Pricing

Commercial base Express Mail postage may be paid with:

a. An Express Mail Corporate Account (see 2.0), including Federal Agency Accounts.

b. Click-N-Ship.

c. Information Based Indicia (IBI) postage meter with an approved shipping label.

d. USPS approved PC-Postage products by registered end-users in conjunction with a qualifying shipping label managed by the PC-Postage system used.

1.1.2 Commercial Plus Pricing

Commercial plus Express Mail postage may be paid with an Express Mail Corporate Account (see 2.0), including Federal Agency accounts, or through USPS approved PC-Postage products by registered end-users in conjunction with a qualifying shipping label managed by the PC-Postage system used.

* * * * *

420 Commercial Parcels Priority Mail

423 Prices and Eligibility

[Revise heading of 1.0 as follows:]

1.0 Prices and Fees

* * * * *

[Renumber current 1.2 through 1.7 as new 1.4 through 1.9, renumber current 1.1.1 as new 1.2, and add new 1.3 to read as follows:]

1.2 Commercial Base Prices

The commercial base prices are available for:

* * * * *

[Revise item b. and add new item e. as follows:]

* * * * *

b. Registered end-users of USPS approved PC-Postage products when using a qualifying shipping label managed by the PC-Postage system used.

* * * * *

e. Customers who pay postage using Information Based Indicia (IBI) postage meters in conjunction with an approved shipping label that bears a confirmation services barcode with a postal routing code (see 708.5.0).

[Renumber and rename Exhibit 1.1 as Exhibit 1.2 Priority Mail Commercial Base Prices and insert new price chart and revise footnotes as follows:]

Exhibit 1.2—Priority Mail Commercial Base Prices
Weight not over (pounds) | Zone ¹ ² ³ ⁴ ⁵ ⁶: L, 1, 2 | Zone ¹ ² ³ ⁴ ⁵ ⁶: 3 | Zone ¹ ² ³ ⁴ ⁵ ⁶: 4 | Zone ¹ ² ³ ⁴ ⁵ ⁶: 5 | Zone ¹ ² ³ ⁴ ⁵ ⁶: 6 | Zone ¹ ² ³ ⁴ ⁵ ⁶: 7 | Zone ¹ ² ³ ⁴ ⁵ ⁶: 8
1 | 4.80 | 4.80 | 4.80 | 4.80 | 4.80 | 4.80 | 4.80
2 | 4.80 | 4.99 | 5.37 | 6.67 | 7.18 | 7.69 | 8.30
3 | 5.08 | 5.81 | 6.64 | 8.15 | 9.35 | 10.07 | 11.41
4 | 5.64 | 6.60 | 7.62 | 9.78 | 11.29 | 12.29 | 14.03
5 | 6.33 | 7.58 | 8.55 | 11.56 | 12.98 | 14.43 | 16.37
6 | 6.98 | 8.60 | 9.84 | 13.34 | 14.64 | 16.62 | 18.71
7 | 7.68 | 9.58 | 11.14 | 15.23 | 16.34 | 18.76 | 21.04
8 | 8.14 | 9.95 | 12.24 | 16.70 | 17.76 | 20.61 | 23.63
9 | 8.37 | 10.64 | 13.04 | 18.00 | 19.18 | 22.41 | 26.30
10 | 9.05 | 11.49 | 14.16 | 19.50 | 21.26 | 24.59 | 28.59
11 | 9.76 | 12.37 | 15.33 | 21.05 | 23.38 | 26.78 | 30.93
12 | 10.36 | 13.20 | 16.45 | 22.56 | 25.45 | 28.96 | 33.22
13 | 10.64 | 13.53 | 16.92 | 23.78 | 27.30 | 30.11 | 34.36
14 | 11.01 | 14.14 | 17.67 | 24.86 | 28.82 | 31.81 | 36.08
15 | 11.47 | 14.74 | 18.55 | 25.61 | 29.43 | 32.14 | 36.85
16 | 11.84 | 15.26 | 19.12 | 26.17 | 30.08 | 32.86 | 37.76
17 | 12.25 | 15.77 | 19.49 | 26.78 | 30.89 | 33.72 | 38.75
18 | 12.49 | 16.27 | 19.91 | 27.35 | 31.51 | 34.33 | 39.66
19 | 12.90 | 16.65 | 20.20 | 28.01 | 32.26 | 35.23 | 40.66
20 | 13.23 | 16.87 | 20.57 | 28.47 | 32.88 | 35.90 | 41.58
21 | 13.60 | 17.11 | 20.89 | 28.94 | 33.40 | 36.51 | 42.38
22 | 13.92 | 17.43 | 21.22 | 29.60 | 34.14 | 37.37 | 43.44
23 | 14.24 | 17.67 | 21.82 | 30.12 | 34.76 | 37.99 | 44.20
24 | 14.57 | 17.86 | 22.48 | 30.73 | 35.47 | 38.89 | 45.30
25 | 14.89 | 18.13 | 23.23 | 31.25 | 35.99 | 39.45 | 46.06
26 | 15.21 | 18.32 | 23.97 | 31.91 | 36.84 | 40.31 | 47.53
27 | 15.63 | 18.60 | 24.68 | 32.33 | 37.36 | 40.88 | 49.31
28 | 16.10 | 18.82 | 25.33 | 32.76 | 37.88 | 41.50 | 51.12
29 | 16.61 | 19.01 | 26.09 | 33.18 | 38.35 | 42.07 | 52.74
30 | 17.11 | 19.30 | 26.78 | 33.64 | 38.87 | 42.64 | 54.50
31 | 17.58 | 19.48 | 27.53 | 34.07 | 39.39 | 43.21 | 56.31
32 | 18.04 | 19.94 | 28.24 | 34.49 | 39.92 | 44.25 | 58.09
33 | 18.27 | 20.46 | 28.88 | 34.92 | 40.44 | 45.48 | 59.75
34 | 18.45 | 21.01 | 29.39 | 35.66 | 41.62 | 46.72 | 61.52
35 | 18.68 | 21.52 | 29.81 | 36.42 | 42.75 | 48.00 | 63.29
36 | 18.87 | 22.08 | 30.19 | 37.22 | 43.83 | 49.28 | 65.06
37 | 19.05 | 22.54 | 30.62 | 37.92 | 44.97 | 50.57 | 66.82
38 | 19.24 | 23.10 | 30.99 | 38.67 | 46.25 | 51.75 | 68.53
39 | 19.47 | 23.58 | 31.36 | 39.47 | 47.38 | 53.09 | 70.36
40 | 19.84 | 24.08 | 31.69 | 40.27 | 48.46 | 54.27 | 72.02
41 | 20.25 | 24.54 | 32.06 | 40.64 | 49.60 | 55.60 | 73.41
42 | 20.63 | 25.02 | 32.39 | 41.49 | 50.68 | 56.89 | 74.41
43 | 21.04 | 25.43 | 32.72 | 42.43 | 51.91 | 58.16 | 75.37
44 | 21.41 | 25.95 | 33.05 | 43.37 | 52.99 | 59.44 | 76.27
45 | 21.78 | 26.41 | 33.38 | 44.31 | 54.18 | 60.73 | 77.17
46 | 22.19 | 26.73 | 33.70 | 45.15 | 55.31 | 61.96 | 78.04
47 | 22.57 | 26.91 | 33.98 | 46.15 | 56.54 | 63.29 | 78.94
48 | 22.98 | 27.15 | 34.31 | 47.08 | 57.67 | 64.57 | 79.76
49 | 23.36 | 27.34 | 34.59 | 47.92 | 58.71 | 65.91 | 80.56
50 | 23.67 | 27.57 | 34.91 | 48.87 | 59.85 | 66.95 | 81.57
51 | 24.14 | 27.76 | 35.52 | 49.81 | 60.98 | 67.56 | 82.43
52 | 24.46 | 27.94 | 36.22 | 50.74 | 61.69 | 68.14 | 83.24
53 | 24.92 | 28.13 | 36.83 | 51.64 | 62.16 | 68.71 | 84.06
54 | 25.25 | 28.26 | 37.44 | 52.63 | 62.63 | 69.23 | 84.86
55 | 25.67 | 28.46 | 38.19 | 53.56 | 63.10 | 69.80 | 85.58
56 | 26.04 | 28.60 | 38.80 | 54.41 | 63.57 | 70.27 | 86.34
57 | 26.45 | 28.78 | 39.40 | 55.25 | 64.01 | 70.80 | 87.11
58 | 26.83 | 28.92 | 40.10 | 55.96 | 64.43 | 71.27 | 87.82
59 | 27.24 | 29.06 | 40.76 | 56.34 | 64.86 | 71.69 | 88.44
60 | 27.56 | 29.20 | 41.36 | 56.67 | 65.23 | 72.84 | 89.11
61 | 28.02 | 29.29 | 42.11 | 56.95 | 65.99 | 73.97 | 90.31
62 | 28.35 | 29.43 | 42.72 | 57.28 | 66.41 | 75.12 | 91.74
63 | 28.81 | 29.57 | 43.38 | 57.56 | 66.79 | 75.88 | 93.17
64 | 29.13 | 29.66 | 44.03 | 57.84 | 67.21 | 76.35 | 94.64
65 | 29.55 | 29.75 | 44.59 | 58.12 | 67.55 | 76.78 | 96.12
66 | 29.92 | 30.08 | 45.29 | 58.36 | 67.97 | 77.15 | 97.51
67 | 30.34 | 30.50 | 46.04 | 58.97 | 68.30 | 77.59 | 99.04
68 | 30.71 | 30.87 | 46.65 | 59.81 | 68.59 | 77.96 | 100.42
69 | 31.13 | 31.29 | 47.25 | 60.71 | 68.96 | 78.35 | 101.90
70 | 31.49 | 31.66 | 48.00 | 60.99 | 69.25 | 78.67 | 103.33
¹ Commercial base prices are available for postage paid through:
• Click-N-Ship.
• Registered end-users of USPS approved PC Postage products when using a qualifying shipping label.
• Information Based Indicia (IBI) postage meters (in conjunction with an approved shipping label that includes a confirmation services barcode with a postal routing code).
• Permit Imprint in conjunction with a Postal routing code.
² Parcels addressed for delivery to zones 1-4 (including local) that weigh less than 20 pounds but measure more than 84 inches in combined length and girth (but not more than 108 inches) are charged the applicable price for a 20-pound parcel (balloon price).
³ Parcels addressed for delivery to zones 5-8 that exceed 1 cubic foot (1,728 cubic inches) are charged based on the actual weight or the dimensional weight, whichever is greater.
⁴ $4.80 is charged for matter sent in a Priority Mail flat-rate envelope, or small flat-rate box provided by the USPS, regardless of weight or domestic destination.
⁵ $9.85 is charged for material sent in a Priority Mail regular flat-rate box provided by the USPS, regardless of weight or domestic destination.
⁶ $13.50 is charged for material sent in a Priority Mail large flat-rate box provided by the USPS, regardless of weight to domestic addresses, and $11.50 to APO/FPO destination addresses.

1.3 Commercial Plus Prices

1.3.1 Existing Priority Mail Customers

Commercial plus prices are available to existing Priority Mail customers:

a. Registered end-users of USPS approved PC-Postage products who qualify for commercial base prices and whose account volume exceeds 100,000 pieces in the previous calendar year or who have a customer commitment agreement with the USPS (see 1.3.2).

b. Permit imprint customers who qualify for commercial base prices and whose account volume exceeds 100,000 pieces in the previous calendar year or who have a customer commitment agreement with the USPS (see 1.3.2).

c. Priority Mail Open and Distribute (PMOD) customers who qualify for commercial base prices and whose account volume exceeds 600 PMOD containers (see 705.16.5.1) in the previous calendar year or who have a customer commitment agreement with the USPS (see 1.3.2).

1.3.2 New Priority Mail Customers

Commercial plus prices are available for new Priority Mail customers who have a customer commitment agreement with the USPS. Shippers must contact their account manager or the manager, Sales and Communication, Expedited Shipping (see 608.8.0 for address) for additional information.

[Insert new Exhibit 1.3 Priority Mail Commercial Plus Prices.]

Exhibit 1.3—Priority Mail Commercial Plus Prices
Weight not over (pounds) | Zone ¹ ² ³ ⁴ ⁵ ⁶: L, 1, 2 | Zone ¹ ² ³ ⁴ ⁵ ⁶: 3 | Zone ¹ ² ³ ⁴ ⁵ ⁶: 4 | Zone ¹ ² ³ ⁴ ⁵ ⁶: 5 | Zone ¹ ² ³ ⁴ ⁵ ⁶: 6 | Zone ¹ ² ³ ⁴ ⁵ ⁶: 7 | Zone ¹ ² ³ ⁴ ⁵ ⁶: 8
1 | 4.75 | 4.75 | 4.75 | 4.75 | 4.75 | 4.75 | 4.75
2 | 4.75 | 4.75 | 5.29 | 6.46 | 6.88 | 7.39 | 7.96
3 | 4.86 | 5.59 | 6.38 | 7.79 | 9.12 | 9.94 | 11.10
4 | 5.42 | 6.39 | 7.42 | 9.50 | 11.08 | 12.14 | 13.75
5 | 6.03 | 7.29 | 8.14 | 11.11 | 12.84 | 14.16 | 16.21
6 | 6.86 | 8.45 | 9.67 | 13.11 | 14.39 | 16.34 | 18.05
7 | 7.54 | 9.37 | 10.90 | 14.97 | 16.00 | 18.37 | 20.61
8 | 7.98 | 9.72 | 11.97 | 16.35 | 17.36 | 20.15 | 23.12
9 | 8.19 | 10.41 | 12.77 | 17.63 | 18.78 | 21.93 | 25.73
10 | 8.67 | 11.21 | 13.47 | 18.78 | 20.35 | 23.86 | 28.10
11 | 9.09 | 11.49 | 14.25 | 19.51 | 21.60 | 25.16 | 29.11
12 | 9.48 | 12.07 | 15.04 | 20.60 | 23.29 | 26.46 | 30.36
13 | 9.72 | 12.37 | 15.48 | 21.74 | 24.98 | 27.51 | 31.41
14 | 10.07 | 12.91 | 16.17 | 22.72 | 26.32 | 29.10 | 32.97
15 | 10.50 | 13.49 | 16.95 | 23.42 | 26.92 | 29.40 | 33.68
16 | 10.85 | 13.94 | 17.49 | 23.91 | 27.51 | 30.06 | 34.53
17 | 11.18 | 14.42 | 17.84 | 24.50 | 28.26 | 30.80 | 35.42
18 | 11.43 | 14.86 | 18.18 | 25.00 | 28.81 | 31.40 | 36.28
19 | 11.81 | 15.20 | 18.48 | 25.59 | 29.49 | 32.20 | 37.18
20 | 12.11 | 15.44 | 18.82 | 26.03 | 30.05 | 32.80 | 37.99
21 | 12.45 | 15.64 | 19.12 | 26.48 | 30.54 | 33.39 | 38.74
22 | 12.74 | 15.93 | 19.41 | 27.07 | 31.23 | 34.14 | 39.70
23 | 13.03 | 16.13 | 19.95 | 27.52 | 31.78 | 34.75 | 40.39
24 | 13.32 | 16.33 | 20.54 | 28.11 | 32.43 | 35.55 | 41.40
25 | 13.61 | 16.57 | 21.23 | 28.56 | 32.93 | 36.09 | 42.10
26 | 13.90 | 16.76 | 21.91 | 29.15 | 33.66 | 36.84 | 43.45
27 | 14.29 | 17.01 | 22.56 | 29.55 | 34.16 | 37.39 | 45.06
28 | 14.74 | 17.20 | 23.14 | 29.94 | 34.61 | 37.94 | 46.72
29 | 15.17 | 17.40 | 23.84 | 30.34 | 35.06 | 38.44 | 48.22
30 | 15.65 | 17.65 | 24.47 | 30.77 | 35.56 | 38.99 | 49.83
31 | 16.05 | 17.79 | 25.16 | 31.13 | 36.00 | 39.49 | 51.48
32 | 16.48 | 18.23 | 25.80 | 31.52 | 36.50 | 40.44 | 53.09
33 | 16.92 | 18.72 | 26.38 | 31.92 | 36.95 | 41.58 | 54.64
34 | 17.36 | 19.21 | 27.07 | 32.60 | 38.04 | 42.73 | 56.25
35 | 17.79 | 19.70 | 27.61 | 33.30 | 39.08 | 43.88 | 57.86
36 | 18.23 | 20.19 | 28.06 | 34.04 | 40.07 | 45.07 | 59.47
37 | 18.67 | 20.62 | 28.51 | 34.68 | 41.12 | 46.23 | 61.07
38 | 18.91 | 21.11 | 28.94 | 35.37 | 42.27 | 47.32 | 62.67
39 | 19.14 | 21.56 | 29.34 | 36.07 | 43.31 | 48.53 | 64.33
40 | 19.50 | 22.00 | 29.78 | 36.81 | 44.29 | 49.62 | 65.83
41 | 19.91 | 22.43 | 30.17 | 37.15 | 45.34 | 50.81 | 67.44
42 | 20.28 | 22.88 | 30.57 | 37.94 | 46.33 | 52.02 | 69.05
43 | 20.68 | 23.26 | 30.96 | 38.78 | 47.48 | 53.16 | 70.66
44 | 21.05 | 23.71 | 31.36 | 39.67 | 48.46 | 54.36 | 72.26
45 | 21.41 | 24.15 | 31.70 | 40.51 | 49.51 | 55.52 | 73.86
46 | 21.81 | 24.59 | 32.33 | 41.30 | 50.55 | 56.66 | 75.47
47 | 22.19 | 25.02 | 32.93 | 42.19 | 51.70 | 57.86 | 77.02
48 | 22.59 | 25.37 | 33.66 | 43.02 | 52.74 | 59.05 | 78.40
49 | 22.96 | 25.67 | 34.00 | 43.82 | 53.68 | 60.26 | 79.19
50 | 23.27 | 25.91 | 34.32 | 44.66 | 54.72 | 61.40 | 80.18
51 | 23.73 | 26.16 | 34.92 | 45.55 | 55.76 | 62.55 | 81.03
52 | 24.04 | 26.40 | 35.60 | 46.38 | 56.91 | 63.70 | 81.82
53 | 24.50 | 26.64 | 36.20 | 47.23 | 57.91 | 64.90 | 82.63
54 | 24.82 | 26.83 | 36.80 | 48.12 | 58.90 | 66.00 | 83.42
55 | 25.23 | 27.08 | 37.54 | 48.95 | 59.94 | 67.09 | 84.13
56 | 25.60 | 27.28 | 38.14 | 49.74 | 61.08 | 68.29 | 84.87
57 | 26.00 | 27.52 | 38.73 | 50.53 | 62.08 | 69.49 | 85.63
58 | 26.37 | 27.72 | 39.42 | 51.43 | 63.12 | 70.06 | 86.33
59 | 26.78 | 27.91 | 40.07 | 52.27 | 63.76 | 70.47 | 86.94
60 | 27.09 | 28.11 | 40.66 | 53.15 | 64.12 | 71.60 | 87.60
61 | 27.54 | 28.30 | 41.39 | 53.94 | 64.87 | 72.71 | 88.77
62 | 27.87 | 28.55 | 41.99 | 54.84 | 65.28 | 73.84 | 90.18
63 | 28.32 | 28.98 | 42.64 | 55.72 | 65.65 | 74.59 | 91.59
64 | 28.63 | 29.16 | 43.28 | 56.57 | 66.07 | 75.05 | 93.03
65 | 29.05 | 29.24 | 43.83 | 57.13 | 66.40 | 75.47 | 94.49
66 | 29.41 | 29.57 | 44.52 | 57.37 | 66.81 | 75.84 | 95.85
67 | 29.82 | 29.98 | 45.26 | 57.97 | 67.14 | 76.27 | 97.36
68 | 30.19 | 30.35 | 45.86 | 58.79 | 67.42 | 76.63 | 98.71
69 | 30.60 | 30.76 | 46.45 | 59.68 | 67.79 | 77.02 | 100.17
70 | 30.95 | 31.12 | 47.18 | 59.95 | 68.07 | 77.33 | 101.57
¹ Priority Mail Commercial Plus prices are available to the following new and existing customers that meet specific volume or customer agreement requirements:
• Registered end-users of USPS-approved PC Postage products.
• Permit imprint customers.
• Priority Mail Open and Distribute customers.
² Parcels addressed for delivery to zones 1-4 (including local) that weigh less than 20 pounds but measure more than 84 inches in combined length and girth (but not more than 108 inches) are charged the applicable price for a 20-pound parcel (balloon price).
³ Parcels addressed for delivery to zones 5-8 that exceed 1 cubic foot (1,728 cubic inches) are charged based on the actual weight or the dimensional weight, whichever is greater.
⁴ $4.75 is charged for material sent in a Priority Mail flat-rate envelope or small flat-rate box regardless of weight or domestic destination. Only USPS-produced flat-rate envelopes are eligible for the flat-rate envelope price.
⁵ $9.67 is charged for material sent in a Priority Mail regular flat-rate box provided by the USPS, regardless of weight or domestic destination.
⁶ $13.27 is charged for material sent in a Priority Mail large flat-rate box provided by the USPS, regardless of weight to domestic addresses, and $11.30 to APO/FPO destination addresses.

* * * * *

[In renumbered 1.6 make the following revisions:]

1.6 Flat-Rate Envelope and Boxes

1.6.1 Flat-Rate Envelopes—Price and Eligibility

[Revise text of the first sentence of renumbered 1.6.1 to change the prices as follows:]

Each USPS-produced Priority Mail flat-rate envelope is charged $4.80, (commercial base price) or $4.75 (commercial plus price) regardless of the actual weight of the piece or its destination. * * *

1.6.2 Flat-Rate Boxes—Price and Eligibility

[Revise text of renumbered 1.6.2 by changing the prices and re-lettering current items a through c as new b through d and add a new item a as follows:]

* * * Each USPS-produced Priority Mail flat-rate box, regardless of the actual weight of the piece or its destination, is charged:

a. $4.80 (commercial base price) or $4.75 (commercial plus price) for material sent in a Priority Mail small flat-rate box to domestic and APO/FPO addresses.

b. $9.85 (commercial base price) or $9.67 (commercial plus price) for material sent in a Priority Mail regular flat-rate box (FRB-1 or FRB-2) to domestic and APO/FPO addresses.

c. $11.50 (commercial base price) or $11.30 (commercial plus price) for material sent in a Priority Mail large flat-rate box to APO/FPO addresses (see 703.2).

d. $13.50 (commercial base price) or $13.27 (commercial plus price) for material sent in a Priority Mail large flat-rate box to domestic addresses.

* * * * *

424 Postage Payment and Documentation

1.0 Basic Standards for Postage Payment

1.1 Postage Payment Options

[Delete existing paragraph in 1.1 and add new 1.1.1 and new 1.1.2 as follows:]

1.1.1 Commercial Base Pricing

Commercial base Priority Mail postage may be paid with:

a. Click-N-Ship.

b. USPS approved PC-Postage products when registered end-users use a qualifying shipping label.

c. Information Based Indicia (IBI) postage meter in conjunction with an approved shipping label that bears a confirmation services barcode with a postal routing code (see 708.5.0).

d. Permit imprint with a postal routing barcode on the mailpiece (see 708.5.0). Flat-shaped mailpieces with permit imprints may bear a POSTNET or Intelligent Mail barcode (see 708.4.0) instead of the postal routing barcode.

1.1.2 Commercial Plus Pricing

Commercial plus Priority Mail postage may be paid with:

a. USPS approved PC-Postage products when registered end-users use a qualifying shipping label.

b. Permit imprint with a postal routing barcode on the mailpiece (see 708.5.0). Flat-shaped mailpieces with permit imprints may bear a POSTNET or Intelligent Mail barcode (see 708.4.0) instead of the postal routing barcode.

* * * * *

450 Parcel Select

453 Prices and Eligibility

1.0 Prices and Fees for Parcel Select

* * * * *

1.2 Parcel Select Destination Entry Prices

[Insert new price chart and revise footnotes of Exhibit 1.2 as follows:]

Machinable ¹ ²: Weight not over (pounds) | Machinable ¹ ²: DDU | Machinable ¹ ²: DSCF | Machinable ¹ ²: DBMC/ASF zone ³: Zones 1 & 2 | Machinable ¹ ²: DBMC/ASF zone ³: Zone 3 | Machinable ¹ ²: DBMC/ASF zone ³: Zone 4 | Machinable ¹ ²: DBMC/ASF zone ³: Zone 5 | Nonmachinable ¹ ²: DDU | Nonmachinable ¹ ²: DSCF: 5-Digit | Nonmachinable ¹ ²: DSCF: 3-Digit ⁴ | Nonmachinable ¹ ²: DBMC/ASF zone ⁵: Zones 1 & 2 | Nonmachinable ¹ ²: DBMC/ASF zone ⁵: Zone 3 | Nonmachinable ¹ ²: DBMC/ASF zone ⁵: Zone 4 | Nonmachinable ¹ ²: DBMC/ASF zone ⁵: Zone 5
1 | $1.54 | $2.16 | $2.74 | $3.23 | $3.65 | $4.68 | $1.54 | $2.16 | $2.98 | $4.95 | $5.44 | $5.86 | $6.89
2 | 1.61 | 2.40 | 3.08 | 3.95 | 4.75 | 5.56 | 1.61 | 2.40 | 3.22 | 5.29 | 6.16 | 6.96 | 7.77
3 | 1.68 | 2.62 | 3.42 | 4.69 | 5.81 | 6.48 | 1.68 | 2.62 | 3.44 | 5.63 | 6.90 | 8.02 | 8.69
4 | 1.73 | 2.81 | 3.73 | 5.35 | 6.66 | 7.26 | 1.73 | 2.81 | 3.63 | 5.94 | 7.56 | 8.87 | 9.47
5 | 1.79 | 2.99 | 4.01 | 5.98 | 7.29 | 8.02 | 1.79 | 2.99 | 3.81 | 6.22 | 8.19 | 9.50 | 10.23
6 | 1.84 | 3.17 | 4.30 | 6.56 | 7.80 | 8.69 | 1.84 | 3.17 | 3.99 | 6.51 | 8.77 | 10.01 | 10.90
7 | 1.90 | 3.34 | 4.56 | 7.12 | 8.30 | 9.36 | 1.90 | 3.34 | 4.16 | 6.77 | 9.33 | 10.51 | 11.57
8 | 1.94 | 3.52 | 4.83 | 7.65 | 8.74 | 9.96 | 1.94 | 3.52 | 4.34 | 7.04 | 9.86 | 10.95 | 12.17
9 | 1.99 | 3.66 | 5.05 | 8.10 | 9.15 | 10.45 | 1.99 | 3.66 | 4.48 | 7.26 | 10.31 | 11.36 | 12.66
10 | 2.03 | 3.79 | 5.28 | 8.58 | 10.14 | 10.95 | 2.03 | 3.79 | 4.61 | 7.49 | 10.79 | 12.35 | 13.16
11 | 2.12 | 4.02 | 5.62 | 9.26 | 10.69 | 11.58 | 2.12 | 4.02 | 4.84 | 7.83 | 11.47 | 12.90 | 13.79
12 | 2.20 | 4.22 | 5.95 | 9.86 | 11.08 | 12.02 | 2.20 | 4.22 | 5.04 | 8.16 | 12.07 | 13.29 | 14.23
13 | 2.27 | 4.43 | 6.25 | 10.40 | 11.45 | 12.44 | 2.27 | 4.43 | 5.25 | 8.46 | 12.61 | 13.66 | 14.65
14 | 2.35 | 4.62 | 6.57 | 10.90 | 11.84 | 12.82 | 2.35 | 4.62 | 5.44 | 8.78 | 13.11 | 14.05 | 15.03
15 | 2.42 | 4.83 | 6.84 | 11.35 | 12.17 | 13.17 | 2.42 | 4.83 | 5.65 | 9.05 | 13.56 | 14.38 | 15.38
16 | 2.48 | 5.03 | 7.14 | 11.68 | 12.48 | 13.53 | 2.48 | 5.03 | 5.85 | 9.35 | 13.89 | 14.69 | 15.74
17 | 2.55 | 5.22 | 7.42 | 11.98 | 12.82 | 13.84 | 2.55 | 5.22 | 6.04 | 9.63 | 14.19 | 15.03 | 16.05
18 | 2.61 | 5.39 | 7.66 | 12.26 | 13.10 | 14.14 | 2.61 | 5.39 | 6.21 | 9.87 | 14.47 | 15.31 | 16.35
19 | 2.67 | 5.57 | 7.93 | 12.56 | 13.38 | 14.43 | 2.67 | 5.57 | 6.39 | 10.14 | 14.77 | 15.59 | 16.64
20 | 2.74 | 5.74 | 8.17 | 12.85 | 13.63 | 14.68 | 2.74 | 5.74 | 6.56 | 10.38 | 15.06 | 15.84 | 16.89
21 | 2.79 | 5.89 | 8.42 | 13.11 | 13.88 | 14.94 | 2.79 | 5.89 | 6.71 | 10.63 | 15.32 | 16.09 | 17.15
22 | 2.84 | 6.06 | 8.66 | 13.37 | 14.15 | 15.17 | 2.84 | 6.06 | 6.88 | 10.87 | 15.58 | 16.36 | 17.38
23 | 2.89 | 6.24 | 8.91 | 13.65 | 14.42 | 15.42 | 2.89 | 6.24 | 7.06 | 11.12 | 15.86 | 16.63 | 17.63
24 | 2.94 | 6.40 | 9.14 | 13.90 | 14.68 | 15.63 | 2.94 | 6.40 | 7.22 | 11.35 | 16.11 | 16.89 | 17.84
25 | 3.00 | 6.53 | 9.35 | 14.14 | 14.92 | 15.86 | 3.00 | 6.53 | 7.35 | 11.56 | 16.35 | 17.13 | 18.07
26 | 3.04 | 6.65 | 9.54 | 14.37 | 15.18 | 16.03 | 3.04 | 6.65 | 7.47 | 11.75 | 16.58 | 17.39 | 18.24
27 | 3.08 | 6.83 | 9.78 | 14.63 | 15.42 | 16.22 | 3.08 | 6.83 | 7.65 | 11.99 | 16.84 | 17.63 | 18.43
28 | 3.13 | 6.96 | 9.96 | 14.87 | 15.64 | 16.43 | 3.13 | 6.96 | 7.78 | 12.17 | 17.08 | 17.85 | 18.64
29 | 3.18 | 7.10 | 10.17 | 15.10 | 15.88 | 16.68 | 3.18 | 7.10 | 7.92 | 12.38 | 17.31 | 18.09 | 18.89
30 | 3.22 | 7.21 | 10.35 | 15.31 | 16.09 | 16.90 | 3.22 | 7.21 | 8.03 | 12.56 | 17.52 | 18.30 | 19.11
31 | 3.25 | 7.35 | 10.55 | 15.50 | 16.31 | 17.14 | 3.25 | 7.35 | 8.17 | 12.76 | 17.71 | 18.52 | 19.35
32 | 3.29 | 7.47 | 10.72 | 15.73 | 16.53 | 17.34 | 3.29 | 7.47 | 8.29 | 12.93 | 17.94 | 18.74 | 19.55
33 | 3.33 | 7.59 | 10.91 | 15.92 | 16.72 | 17.56 | 3.33 | 7.59 | 8.41 | 13.12 | 18.13 | 18.93 | 19.77
34 | 3.36 | 7.73 | 11.10 | 16.05 | 16.93 | 17.77 | 3.36 | 7.73 | 8.55 | 13.31 | 18.26 | 19.14 | 19.98
35 | 3.41 | 7.83 | 11.23 | 16.24 | 17.13 | 17.97 | 3.41 | 7.83 | 8.65 | 13.44 | 18.45 | 19.34 | 20.18
36 |  |  |  |  |  |  | 3.44 | 7.94 | 8.76 | 13.63 | 18.58 | 19.52 | 20.38
37 |  |  |  |  |  |  | 3.47 | 8.05 | 8.87 | 13.81 | 18.72 | 19.71 | 20.57
38 |  |  |  |  |  |  | 3.50 | 8.15 | 8.97 | 13.97 | 18.88 | 19.89 | 20.77
39 |  |  |  |  |  |  | 3.53 | 8.27 | 9.09 | 14.13 | 19.03 | 20.06 | 20.95
40 |  |  |  |  |  |  | 3.56 | 8.33 | 9.15 | 14.24 | 19.15 | 20.25 | 21.13
41 |  |  |  |  |  |  | 3.59 | 8.42 | 9.24 | 14.40 | 19.34 | 20.36 | 21.31
42 |  |  |  |  |  |  | 3.63 | 8.54 | 9.36 | 14.55 | 19.46 | 20.49 | 21.48
43 |  |  |  |  |  |  | 3.66 | 8.62 | 9.44 | 14.69 | 19.59 | 20.57 | 21.66
44 |  |  |  |  |  |  | 3.68 | 8.71 | 9.53 | 14.82 | 19.72 | 20.67 | 21.81
45 |  |  |  |  |  |  | 3.71 | 8.79 | 9.61 | 14.96 | 19.83 | 20.94 | 21.97
46 |  |  |  |  |  |  | 3.73 | 8.89 | 9.71 | 15.08 | 19.98 | 21.02 | 22.25
47 |  |  |  |  |  |  | 3.76 | 8.97 | 9.79 | 15.21 | 20.09 | 21.11 | 22.73
48 |  |  |  |  |  |  | 3.78 | 9.03 | 9.85 | 15.32 | 20.23 | 21.18 | 23.23
49 |  |  |  |  |  |  | 3.80 | 9.11 | 9.93 | 15.44 | 20.35 | 21.26 | 23.71
50 |  |  |  |  |  |  | 3.84 | 9.18 | 10.00 | 15.57 | 20.46 | 21.32 | 24.21
51 |  |  |  |  |  |  | 3.86 | 9.29 | 10.11 | 15.71 | 20.55 | 21.41 | 24.72
52 |  |  |  |  |  |  | 3.88 | 9.33 | 10.15 | 15.82 | 20.72 | 21.48 | 25.27
53 |  |  |  |  |  |  | 3.90 | 9.38 | 10.20 | 15.93 | 20.80 | 21.52 | 25.81
54 |  |  |  |  |  |  | 3.92 | 9.47 | 10.29 | 16.07 | 20.87 | 21.60 | 26.36
55 |  |  |  |  |  |  | 3.94 | 9.59 | 10.41 | 16.20 | 20.94 | 21.68 | 26.60
56 |  |  |  |  |  |  | 3.96 | 9.64 | 10.46 | 16.31 | 21.01 | 21.77 | 26.70
57 |  |  |  |  |  |  | 3.98 | 9.73 | 10.55 | 16.44 | 21.03 | 21.80 | 26.86
58 |  |  |  |  |  |  | 3.99 | 9.80 | 10.62 | 16.57 | 21.11 | 21.85 | 26.97
59 |  |  |  |  |  |  | 4.01 | 9.90 | 10.72 | 16.70 | 21.15 | 21.92 | 27.10
60 |  |  |  |  |  |  | 4.03 | 9.97 | 10.79 | 16.83 | 21.18 | 21.95 | 27.23
61 |  |  |  |  |  |  | 4.06 | 10.01 | 10.83 | 16.91 | 21.26 | 22.03 | 27.34
62 |  |  |  |  |  |  | 4.07 | 10.08 | 10.90 | 17.03 | 21.30 | 22.12 | 27.45
63 |  |  |  |  |  |  | 4.09 | 10.16 | 10.98 | 17.15 | 21.34 | 22.23 | 27.55
64 |  |  |  |  |  |  | 4.10 | 10.24 | 11.06 | 17.27 | 21.37 | 22.33 | 27.67
65 |  |  |  |  |  |  | 4.12 | 10.30 | 11.12 | 17.39 | 21.43 | 22.43 | 27.76
66 |  |  |  |  |  |  | 4.13 | 10.34 | 11.16 | 17.44 | 21.47 | 22.54 | 27.89
67 |  |  |  |  |  |  | 4.15 | 10.42 | 11.24 | 17.55 | 21.50 | 22.66 | 27.98
68 |  |  |  |  |  |  | 4.16 | 10.46 | 11.28 | 17.65 | 21.53 | 22.72 | 28.08
69 |  |  |  |  |  |  | 4.18 | 10.55 | 11.37 | 17.77 | 21.57 | 22.83 | 28.18
70 |  |  |  |  |  |  | 4.19 | 10.60 | 11.42 | 17.87 | 21.62 | 22.94 | 28.28
Oversized |  |  |  |  |  |  | 7.33 | 16.04 | 16.04 | 25.23 | 35.62 | 48.25 | 50.15
For parcels over 35 pounds, use nonmachinable prices.
¹ Parcels that measure in combined length and girth:
—More than 84 inches but not more than 108 inches, and the piece weighs less than 20 pounds, use 20-pound prices (balloon price).
—More than 108 inches but not more than 130 inches, use oversized prices (regardless of weight).
² Regardless of weight, a parcel that meets any of the criteria in 401.2.3.2 must pay the nonmachinable prices.
³ Machinable parcels must be barcoded. Nonbarcoded machinable parcels are eligible only for retail Parcel Post Intra-BMC/ASF prices.
⁴ Prices include the $0.82 nonmachinable surcharge. The nonmachinable surcharge does not apply to parcels mailed at oversized prices or parcels sent with special handling.
⁵ Prices include the $2.21 nonmachinable surcharge. The nonmachinable surcharge does not apply to parcels mailed at oversized prices or parcels sent with special handling.

* * * * *

500 Additional Services

* * * * *

507 Mailer Services

* * * * *

13.0 Parcel Return Service

* * * * *

13.3 Prices

13.3.1 Parcel Return Service—Machinable

* * * * *

[Insert new price chart and revise footnotes of Exhibit 13.3.1 as follows:]

Exhibit 13.3.1—Parcel Return Service—Return BMC Machinable
Weight not over (pounds) | RDU | RBMC zones 1 & 2 | RBMC zone 3 | RBMC zone 4 | RBMC zone 5
1 | 1.62 | 2.54 | 2.68 | 2.76 | 2.98
2 | 1.69 | 3.43 | 3.48 | 3.59 | 3.89
3 | 1.76 | 4.17 | 4.22 | 4.35 | 4.76
4 | 1.82 | 4.65 | 4.90 | 5.03 | 5.56
5 | 1.88 | 5.10 | 5.49 | 5.66 | 6.31
6 | 1.94 | 5.51 | 6.04 | 6.20 | 6.98
7 | 1.99 | 5.85 | 6.52 | 6.72 | 7.61
8 | 2.04 | 6.53 | 6.99 | 7.19 | 8.19
9 | 2.09 | 6.88 | 7.41 | 7.67 | 8.72
10 | 2.13 | 7.17 | 7.86 | 8.41 | 9.22
11 | 2.22 | 7.35 | 8.23 | 8.80 | 9.67
12 | 2.31 | 7.58 | 8.60 | 9.18 | 10.11
13 | 2.39 | 7.79 | 8.93 | 9.54 | 10.52
14 | 2.46 | 7.97 | 9.23 | 9.94 | 10.89
15 | 2.54 | 8.12 | 9.55 | 10.24 | 11.23
16 | 2.61 | 8.29 | 9.87 | 10.55 | 11.59
17 | 2.68 | 8.50 | 10.17 | 10.89 | 11.88
18 | 2.74 | 8.63 | 10.45 | 11.16 | 12.18
19 | 2.81 | 8.81 | 10.74 | 11.44 | 12.46
20 | 2.87 | 8.95 | 10.96 | 11.67 | 12.71
21 | 2.93 | 9.10 | 11.18 | 11.92 | 12.96
22 | 2.98 | 9.26 | 11.36 | 12.19 | 13.19
23 | 3.04 | 9.39 | 11.61 | 12.45 | 13.44
24 | 3.09 | 9.50 | 11.77 | 12.71 | 13.64
25 | 3.14 | 9.63 | 11.97 | 12.95 | 13.86
26 | 3.19 | 9.77 | 12.13 | 13.20 | 14.03
27 | 3.24 | 9.90 | 12.32 | 13.44 | 14.22
28 | 3.28 | 10.00 | 12.50 | 13.61 | 14.42
29 | 3.33 | 10.13 | 12.69 | 13.76 | 14.66
30 | 3.37 | 10.26 | 12.83 | 13.91 | 14.87
31 | 3.41 | 10.38 | 12.96 | 14.04 | 15.11
32 | 3.46 | 10.53 | 13.13 | 14.20 | 15.31
33 | 3.50 | 10.61 | 13.28 | 14.32 | 15.53
34 | 3.53 | 10.74 | 13.40 | 14.45 | 15.69
35 | 3.57 | 10.82 | 13.56 | 14.56 | 15.83
For parcels over 35 lbs., use nonmachinable prices. For books and other printed matter the maximum weight is 25 pounds.

Note: Parcels that measure in combined length and girth: Balloon Price: RBMC pieces more than 84 inches but not more than 108 inches, and the piece weighs less than 20 pounds, use 20-pound prices. More than 108 inches but not more than 130 inches, use oversized prices (regardless of weight).

13.3.2 Parcel Return Service—Return BMC Nonmachinable

* * * * *

[Insert new price chart and revise footnotes of Exhibit 13.3.2 as follows:]

Exhibit 13.3.2—Parcel Return Service—Return BMC Nonmachinable
Weight not over (pounds) | RDU | RBMC ¹ zones 1 & 2 | RBMC ¹ zone 3 | RBMC ¹ zone 4 | RBMC ¹ zone 5
1 | 1.62 | 4.75 | 4.89 | 4.97 | 5.19
2 | 1.69 | 5.64 | 5.69 | 5.80 | 6.10
3 | 1.76 | 6.38 | 6.43 | 6.56 | 6.97
4 | 1.82 | 6.86 | 7.11 | 7.24 | 7.77
5 | 1.88 | 7.31 | 7.70 | 7.87 | 8.52
6 | 1.94 | 7.72 | 8.25 | 8.41 | 9.19
7 | 1.99 | 8.06 | 8.73 | 8.93 | 9.82
8 | 2.04 | 8.74 | 9.20 | 9.40 | 10.40
9 | 2.09 | 9.09 | 9.62 | 9.88 | 10.93
10 | 2.13 | 9.38 | 10.07 | 10.62 | 11.43
11 | 2.22 | 9.56 | 10.44 | 11.01 | 11.88
12 | 2.31 | 9.79 | 10.81 | 11.39 | 12.32
13 | 2.39 | 10.00 | 11.14 | 11.75 | 12.73
14 | 2.46 | 10.18 | 11.44 | 12.15 | 13.10
15 | 2.54 | 10.33 | 11.76 | 12.45 | 13.44
16 | 2.61 | 10.50 | 12.08 | 12.76 | 13.80
17 | 2.68 | 10.71 | 12.38 | 13.10 | 14.09
18 | 2.74 | 10.84 | 12.66 | 13.37 | 14.39
19 | 2.81 | 11.02 | 12.95 | 13.65 | 14.67
20 | 2.87 | 11.16 | 13.17 | 13.88 | 14.92
21 | 2.93 | 11.31 | 13.39 | 14.13 | 15.17
22 | 2.98 | 11.47 | 13.57 | 14.40 | 15.40
23 | 3.04 | 11.60 | 13.82 | 14.66 | 15.65
24 | 3.09 | 11.71 | 13.98 | 14.92 | 15.85
25 | 3.14 | 11.84 | 14.18 | 15.16 | 16.07
26 | 3.19 | 11.98 | 14.34 | 15.41 | 16.24
27 | 3.24 | 12.11 | 14.53 | 15.65 | 16.43
28 | 3.28 | 12.21 | 14.71 | 15.82 | 16.63
29 | 3.33 | 12.34 | 14.90 | 15.97 | 16.87
30 | 3.37 | 12.47 | 15.04 | 16.12 | 17.08
31 | 3.41 | 12.59 | 15.17 | 16.25 | 17.32
32 | 3.46 | 12.74 | 15.34 | 16.41 | 17.52
33 | 3.50 | 12.82 | 15.49 | 16.53 | 17.74
34 | 3.53 | 12.95 | 15.61 | 16.66 | 17.90
35 | 3.57 | 13.03 | 15.77 | 16.77 | 18.04
36 | 3.61 | 13.17 | 15.95 | 16.92 | 18.23
37 | 3.64 | 13.28 | 16.06 | 17.02 | 18.31
38 | 3.68 | 13.34 | 16.15 | 17.08 | 18.38
39 | 3.71 | 13.42 | 16.27 | 17.16 | 18.45
40 | 3.74 | 13.49 | 16.35 | 17.20 | 18.53
41 | 3.77 | 13.59 | 16.48 | 17.27 | 18.60
42 | 3.80 | 13.63 | 16.56 | 17.33 | 18.67
43 | 3.83 | 13.69 | 16.66 | 17.41 | 18.70
44 | 3.86 | 13.77 | 16.74 | 17.46 | 18.74
45 | 3.89 | 13.82 | 16.81 | 17.68 | 18.81
46 | 3.92 | 13.92 | 16.92 | 17.73 | 18.84
47 | 3.94 | 13.98 | 16.97 | 17.76 | 18.89
48 | 3.97 | 14.04 | 17.08 | 17.79 | 18.94
49 | 4.00 | 14.11 | 17.17 | 17.84 | 18.97
50 | 4.02 | 14.12 | 17.24 | 17.87 | 19.03
51 | 4.04 | 14.23 | 17.30 | 17.90 | 19.08
52 | 4.07 | 14.28 | 17.42 | 17.96 | 19.11
53 | 4.09 | 14.31 | 17.46 | 17.97 | 19.17
54 | 4.11 | 14.37 | 17.49 | 18.01 | 19.20
55 | 4.13 | 14.42 | 17.52 | 18.04 | 19.24
56 | 4.16 | 14.48 | 17.55 | 18.09 | 19.30
57 | 4.18 | 14.55 | 17.55 | 18.09 | 19.34
58 | 4.20 | 14.61 | 17.58 | 18.11 | 19.39
59 | 4.22 | 14.66 | 17.60 | 18.13 | 19.44
60 | 4.23 | 14.73 | 17.61 | 18.13 | 19.47
61 | 4.25 | 14.78 | 17.62 | 18.16 | 19.52
62 | 4.27 | 14.82 | 17.63 | 18.24 | 19.55
63 | 4.29 | 14.89 | 17.63 | 18.31 | 19.62
64 | 4.31 | 14.94 | 17.63 | 18.35 | 19.66
65 | 4.32 | 14.99 | 17.68 | 18.40 | 19.70
66 | 4.34 | 15.05 | 17.68 | 18.47 | 19.75
67 | 4.35 | 15.12 | 17.69 | 18.56 | 19.79
68 | 4.37 | 15.12 | 17.69 | 18.59 | 19.82
69 | 4.39 | 15.19 | 17.69 | 18.67 | 19.89
70 | 4.40 | 15.25 | 17.69 | 18.72 | 19.93
Oversized | 7.68 | 32.45 | 33.00 | 34.00 | 35.51
¹ Nonmachinable prices include the $2.21 nonmachinable surcharge. The nonmachinable surcharge does not apply to parcels mailed at oversized prices. For parcels over 35 lbs., use nonmachinable prices. For books and other printed matter the maximum weight is 25 pounds.

Note: Parcels that measure in combined length and girth: Balloon Price: RBMC pieces more than 84 inches but not more than 108 inches, and the piece weighs less than 20 pounds, use 20-pound prices. More than 108 inches but not more than 130 inches, use oversized prices (regardless of weight).

* * * * *

600 Basic Standards for All Mailing Services

* * * * *

608 Postal Information and Resources

* * * * *

8.0 USPS Contact Information

8.1 Postal Service

[Add address of manager, Sales and Communication, Expedited Shipping to list in the appropriate place as follows:]

* * * * *

Sales and Communication, Expedited Shipping, US Postal Service, 475 L'Enfant Plz., SW., NB Ste. 4039, Washington, DC 20260-4000.

* * * * *

700 Special Standards

703 Nonprofit Standard Mail and Other Unique Eligibility

* * * * *

2.0 Overseas Military Mail

2.1 Basic Standards

* * * * *

2.1.2 APO/FPO Priority Mail Flat-Rate Boxes

[Revise text of 2.1.2 by changing the price for the large flat-rate box to $11.95, changing the price for the regular flat-rate box to $10.35, and adding a new fifth sentence as follows:]

* * * Articles mailed to an APO/FPO address in a small flat-rate box are charged $4.95. * * *

* * * * *

Neva R. Watson,
Attorney, Legislative.

[FR Doc. E8-27576 Filed 11-26-08; 8:45 am]

BILLING CODE 7710-12-P